DEPARTMENT OF HEALTH AND HUMAN SERVICES

National Institutes of Health

National Institute of Neurological Disorders and Stroke; Amended Notice of Meeting

Notice is hereby given of a change in the meeting of the Board of Scientific Counselors, National Institute of Neurological Disorders and Stroke, October 04, 2020, 06:00 p.m. to October 06, 2020, 12:00 p.m., Residence Inn Bethesda, 7335 Wisconsin Avenue, Bethesda, MD 20814 which was published in the Federal Register on November 15, 2019, 84 FR 62543.

This meeting notice is to change October 4-6, 2020 BSC meeting date to November 22-24, 2020. The meeting is closed to the public.

Dated: December 12, 2019.
Sylvia L. Neal,
Program Analyst, Office of Federal Advisory Committee Policy.

[FR Doc. 2019-27189 Filed 12-17-19; 8:45 am]

BILLING CODE 4140-01-P